OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: Glenda Haendschke, Acting Group Manager, Executive Resources Services Group, Center for Human Resources, Division for Human Capital Leadership and Merit System Accountability, 202-606-2246.

SUPPLEMENTARY INFORMATION: Appearing in the listing below are the individual authorities established under Schedules A, B, and C between March 1, 2009, and March 31, 2009. Future notices will be published on the fourth Tuesday of each month, or as soon as possible thereafter. A consolidated listing of all authorities as of September 30 is published each year. The following Schedules are not codified in the code of Federal Regulations. These are agency specific exceptions.

Schedule A

No Schedule A appointments in the month of March 2009.

Schedule B

No Schedule B appointments were approved for March 2009.

Schedule C

The following Schedule C appointments were approved during March 2009:

Commodity Futures Trading Commission

CTOT09768 Director, Office of External Affairs for the Chairperson. Effective March 6, 2009.

Environmental Protection Agency

EPGS09006 Deputy Press Secretary for the Associate Administrator for Public Affairs. Effective March 5, 2009.

EPGS07029 Director of Advance to the Deputy Chief of Staff (Operations). Effective March 12, 2009.

EPGS60076 Senior Counsel for Congressional and Intergovernmental Relations. Effective March 26, 2009.

Occupational Safety and Health Review Commission

SHGS00007 Confidential Assistant to the Chairman. Effective March 3, 2009.

SHGS60008 Counsel to a Commissioner. Effective March 3, 2009.

SHGS60009 Confidential Assistant to the Commission. Effective March 3, 2009.

Office of the United States Trade Representative

TNGS00006 Director of Scheduling and Advance for the Chief of Staff. Effective March 30, 2009.

TNGS90001 Deputy Assistant United States Trade Representative for Intergovernmental Affairs and Public Liaison. Effective March 30, 2009.

TNGS90002 Congressional Affairs Specialist to the United States Trade Representative. Effective March 30, 2009.

TNGS90003 Personal Assistant to the United States Trade Representative. Effective March 30, 2009.

TNGS90005 Confidential Assistant to the Chief of Staff. Effective March 30, 2009.

TNGS90006 Deputy Assistant United States Trade Representative for Congressional Affairs. Effective March 30, 2009.

Securities and Exchange Commission

SEOT11011 Director of Communications to the Chairman. Effective March 5, 2009.

SEOT11012 Chief of Staff to the Chairman. Effective March 5, 2009.

SEOT60090 Confidential Assistant to the Chairman. Effective March 17, 2009.

Department of State

DSGS69808 Staff Assistant to the Deputy Secretary. Effective March 18, 2009.

Department of the Treasury

DYGS00407 Executive Assistant to the Senior Advisor. Effective March 6, 2009.

DYGS00424 Special Assistant to the Assistant Secretary (Economic Policy). Effective March 19, 2009.

DYGS00446 Special Assistant for Legislative Affairs. Effective March 19, 2009.

DYGS00479 Speechwriter. Effective March 26, 2009.

Department of Defense

DDGS17185 Staff Assistant to the Under Secretary of Defense for Policy. Effective March 4, 2009.

DDGS17186 Staff Assistant for Policy. Effective March 4, 2009.

DDGS17187 Special Assistant for Asian and Pacific Security Affairs. Effective March 11, 2009.

DDGS16914 Personal and Confidential Assistant for the Deputy Secretary of Defense. Effective March 16, 2009.

DDGS17194 Special Assistant for White House Liaison for the Secretary of Defense. Effective March 30, 2009.

DDGS17190 Special Assistant for General Counsel. Effective March 31, 2009.

DDGS17191 Senior Advisor for General Counsel. Effective March 31, 2009.

Department of Justice

DJGS00468 Press Assistant, Office of Public Affairs. Effective March 4, 2009.

DJGS00469 Media Affairs Specialist, Office of Public Affairs. Effective March 4, 2009.

DJGS00470 Confidential Assistant to the Attorney General. Effective March 4, 2009.

DJGS00473 Director of Scheduling to the Attorney General. Effective March 6, 2009.

DJGS00204 Senior Counsel to the Deputy Attorney General. Effective March 10, 2009.

DJGS00471 Senior Counsel to the Associate Attorney General. Effective March 10, 2009.

DJGS00346 Deputy Director, Office of Public Affairs. Effective March 17, 2009.

DJGS00478 Counsel to the Attorney General. Effective March 19, 2009.

DJGS00193 Senior Counsel to the Assistant Attorney General (Legal Policy). Effective March 23, 2009.

DJGS00373 Staff Assistant, Office of Public Affairs. Effective March 23, 2009.

DJGS00114 Special Assistant to the Attorney General. Effective March 25, 2009.

DJGS00176 Public Affairs Specialist, Office of Public Affairs. Effective March 25, 2009.

DJGS00289 Counsel to the Deputy Attorney General. Effective March 25, 2009.

DJGS00476 Counsel to the Deputy Attorney General. Effective March 25, 2009.

DJGS00406 Public Affairs Specialist, Office of Public Affairs. Effective March 30, 2009.

Department of Homeland Security

DMGS00754 Governor and Homeland Security Advisors Coordinator for Intergovernmental Programs. Effective March 9, 2009.

DMGS00396 Press Secretary for Public Affairs. Effective March 16, 2009.

DMGS00629 Confidential Assistant to the General Counsel. Effective March 16, 2009.

DMGS00642 Special Assistant for Congressional Affairs Customs and Border Protection. Effective March 16, 2009.

DMGS00649 Deputy White House Liaison to the White House Liaison. Effective March 16, 2009.

DMGS00702 Special Assistant for the Department of Homeland Security. Effective March 16, 2009.

DMGS00736 Director of Strategic Communications for Public Affairs. Effective March 16, 2009.

DMGS00766 Business Liaison for Private Sector. Effective March 16, 2009.

DMGS00627 Counselor, Office of Counter Narcotics Enforcement. Effective March 25, 2009.

DMGS00641 Policy Advisor for Health Affairs and Chief Medical Officer. Effective March 25, 2009.

DMGS00683 Deputy Director of Scheduling for Travel. Effective March 25, 2009.

DMGS00051 Senior Business Liaison for Private Sector. Effective March 26, 2009.

DMGS00413 Legislative Policy Advisor for Policy. Effective March 26, 2009.

DMGS00544 Advance Representative of Scheduling and Advance. Effective March 26, 2009.

DMGS00550 Confidential Assistant for the Department of Homeland Security. Effective March 26, 2009.

DMGS00563 Assistant Press Secretary for Media Relations. Effective March 26, 2009.

DMGS00577 Deputy Director of the Center for Faith Based and Community Initiatives. Effective March 26, 2009.

DMGS00591 Senior Liaison Officer for Operations and Administration. Effective March 26, 2009.

DMGS00610 Public Affairs and Press Assistant for Public Affairs. Effective March 26, 2009.

DMGS00689 Advance Representative of Scheduling and Advance. Effective March 26, 2009.

DMGS00717 Business Liaison/Private Sector for Private Sector. Effective March 26, 2009.

DMGS00729 Special Assistant for the Chief Privacy Officer. Effective March 26, 2009.

DMGS00745 Confidential Assistant for Public Affairs. Effective March 26, 2009.

DMGS00749 Confidential Assistant to the Secretary. Effective March 26, 2009.

DMGS00772 Assistant Director of Legislative Affairs for Legislative Affairs. Effective March 26, 2009.

DMGS00786 Legislative Assistant for Legislative Affairs. Effective March 26, 2009.

Department of the Interior

DIGS01141 Associate Director, External and Intergovernmental Affairs for the Secretary. Effective March 3, 2009.

DIGS01143 Special Assistant to the Secretary. Effective March 3, 2009.

DIGS01144 Senior Advisor for Alaskan Affairs for the Secretary. Effective March 6, 2009.

DIGS01145 Special Assistant to the Secretary. Effective March 9, 2009.

DIGS01147 Press Secretary, Office of Communications. Effective March 11, 2009.

DIGS01148 Special Assistant for Indian Affairs. Effective March 11, 2009.

DIGS01149 Director of Advance for the Secretary. Effective March 11, 2009.

DIGS01150 Special Assistant to the Deputy Secretary of the Interior. Effective March 11, 2009.

DIGS01152 Special Assistant to the Deputy Secretary. Effective March 25, 2009.

DIGS01153 Deputy Director, Congressional and Legislative Affairs. Effective March 25, 2009.

DIGS01155 Associate Director, External and Intergovernmental Affairs. Effective March 27, 2009.

DIGS01156 Special Assistant to the Secretary. Effective March 27, 2009.

DIGS01146 Deputy Director, Congressional and Legislative. Effective March 30, 2009.

Department of Agriculture

DAGS00102 Confidential Assistant for Marketing and Regulatory Programs. Effective March 13, 2009.

DAGS01021 Confidential Assistant for Rural Development. Effective March 17, 2009.

DAGS01023 Advance Lead for Communications. Effective March 17, 2009.

DAGS01024 Deputy Director of Scheduling and Advance for the Office of Communications. Effective March 17, 2009.

DAGS01022 Confidential Assistant for Rural Development. Effective March 26, 2009.

DAGS00116 Confidential Assistant for Marketing and Regulatory Programs. Effective March 31, 2009.

DAGS00117 Special Assistant for Food Safety. Effective March 31, 2009.

Department of Commerce

DCGS00689 Special Assistant, Executive Secretariat. Effective March 3, 2009.

DCGS00298 Special Advisor for Telecommunications and Information. Effective March 4, 2009.

DCGS00465 Confidential Assistant, Office of White House Liaison. Effective March 4, 2009.

DCGS00686 Director of Scheduling and Advance to the Chief of Staff. Effective March 6, 2009.

DCGS00564 Confidential Assistant to the Senior Advisor to the Secretary. Effective March 16, 2009.

DCGS00569 Confidential Assistant for Public Affairs. Effective March 17, 2009.

DCGS00494 Press Secretary for Public Affairs. Effective March 20, 2009.

DCGS00030 Special Assistant, Minority Business Development Agency. Effective March 25, 2009.

DCGS00574 Confidential Assistant, Office of Business Liaison. Effective March 25, 2009.

DCGS00629 Deputy Director for Public Affairs. Effective March 25, 2009.

Department of Labor

DLGS60135 Special Assistant for Planning, Scheduling, and Advance. Effective March 3, 2009.

DLGS60089 Special Assistant to the Secretary of Labor. Effective March 19, 2009.

DLGS60160 Senior Speechwriter for Public Affairs. Effective March 27, 2009.

Department of Education

DBGS00227 Confidential Assistant, White House Liaison. Effective March 5, 2009.

DBGS00229 Confidential Assistant to the Chief of Staff. Effective March 5, 2009.

DBGS00649 Confidential Assistant for Scheduling and Advance Staff. Effective March 5, 2009.

DBGS00626 Special Assistant to the Chief of Staff. Effective March 13, 2009.

DBGS00288 Confidential Assistant for Legislation and Congressional Affairs. Effective March 17, 2009.

DBGS00376 Director, Scheduling and Advance Staff for Strategy. Effective March 18, 2009.

DBGS00250 Confidential Assistant for Strategy. Effective March 24, 2009.

DBGS00462 Special Assistant, Office of Communications and Outreach. Effective March 24, 2009.

DBGS00143 Special Assistant for College Access the Deputy Chief of Staff for Strategy. Effective March 27, 2009.

DBGS00551 Confidential Assistant to the Assistant Secretary for Planning, Evaluation, and Policy Development. Effective March 27, 2009.

DBGS00586 Special Assistant to the Deputy Chief of Staff for Strategy, Office of Communication and Outreach. Effective March 27, 2009.

DBGS00672 Confidential Assistant for the Deputy Chief of Staff for Strategy, Office of the Secretary. Effective March 27, 2009.

Department of Veterans Affairs

DVGS60002 Special Assistant for Public and Intergovernmental Affairs. Effective March 5, 2009.

DVGS60017 Special Assistant for Public and Intergovernmental Affairs. Effective March 12, 2009.

DVGS00082 Special Assistant for Public and Intergovernmental Affairs. Effective March 19, 2009.

DVGS60072 Special Assistant for Congressional and Legislative Affairs. Effective March 19, 2009.

DVGS60035 Special Assistant to the Secretary of Veterans Affairs. Effective March 26, 2009.

DVGS60080 Special Assistant to the Secretary of Veterans Affairs. Effective March 26, 2009.

Department of Energy

DEGS00725 Special Assistant to the Chief of Staff. Effective March 6, 2009.

DEGS00726 New Media Specialist, Office of Public Affairs. Effective March 6, 2009.

DEGS00727 Special Assistant to the Deputy Chief of Staff. Effective March 10, 2009.

DEGS00728 Special Assistant to the Chief of Staff. Effective March 11, 2009.

DEGS00729 Advisor for Policy and Communications, Office of Public Affairs. Effective March 11, 2009.

DEGS00730 Director, Public Affairs for Nuclear Security/Administrator for Nuclear Security. Effective March 11, 2009.

DEGS00731 Special Assistant to the Chief of Staff. Effective March 11, 2009.

DEGS00732 Deputy Scheduler, Office of Scheduling and Advance. Effective March 11, 2009.

DEGS00733 Trip Coordinator, Office of Scheduling and Advance. Effective March 17, 2009.

DEGS00734 Special Assistant to the Chief of Staff. Effective March 17, 2009.

DEGS00735 Special Assistant to the Chief of Staff. Effective March 23, 2009.

DEGS00736 Deputy Press Secretary, Office of Public Affairs. Effective March 25, 2009.

DEGS00737 Special Assistant for Congressional and Intergovernmental Affairs. Effective March 25, 2009.

DEGS00738 Deputy Director, Scheduling and Advance, Office of Scheduling and Advance. Effective March 26, 2009.

Department of Housing and Urban Development

DUGS60078 Staff Assistant to the Chief of Staff. Effective March 3, 2009.

DUGS60174 Congressional Relations Officer for Congressional Relations. Effective March 3, 2009.

DUGS60178 Intergovernmental Relations Specialist for Congressional and Intergovernmental Relations. Effective March 3, 2009.

DUGS60194 Staff Assistant for Public Affairs. Effective March 3, 2009.

DUGS00053 Staff Assistant to the Chief of Staff. Effective March 6, 2009.

DUGS60249 Congressional Relations Specialist for Congressional and Intergovernmental Relations. Effective March 10, 2009.

DUGS60388 Scheduling Coordinator for Administration/Chief Human Capital Officer. Effective March 11, 2009.

DUGS60180 Special Assistant for Housing, Federal Housing Commissioner. Effective March 16, 2009.

DUGS60114 Staff Assistant for Housing, Federal Housing Commissioner. Effective March 17, 2009.

DUGS60341 Special Assistant for Program Initiatives for the Chief of Staff. Effective March 17, 2009.

DUGS60342 Special Assistant to the Chief of Staff. Effective March 17, 2009.

DUGS60363 Special Assistant to the Chief of Staff. Effective March 17, 2009.

DUGS60599 Deputy Chief of Staff. Effective March 18, 2009.

DUGS60184 Deputy Assistant Secretary for Congressional Relations for Congressional and Intergovernmental Relations. Effective March 19, 2009.

DUGS06632 General Deputy Assistant Secretary for Public Affairs. Effective March 20, 2009.

DUGS60117 Staff Assistant for Administration/Chief Human Capital Officer. Effective March 23, 2009.

DUGS60469 Special Assistant for Public and Indian Housing. Effective March 23, 2009.

Department of Transportation

DTGS60295 Special Assistant for Policy for the Associate Deputy Secretary. Effective March 9, 2009.

DTGS60324 Director of Scheduling and Advance for the Chief of Staff. Effective March 9, 2009.

DTGS60202 Special Assistant to the Administrator. Effective March 17, 2009.

DTGS60258 Associate Director for Governmental Affairs. Effective March 17, 2009.

DTGS60369 Deputy Assistant Secretary for Governmental Affairs. Effective March 17, 2009.

DTGS60451 Director of Communications for the Administrator. Effective March 17, 2009.

DTGS60371 Deputy Assistant Secretary for Governmental Affairs. Effective March 19, 2009.

Authority: 5 U.S.C. 3301 and 3302; E.O. 10577, 3 CFR 1954-1958 Comp., p. 218.

U.S. Office of Personnel Management.
John Berry,
Director.

[FR Doc. E9-30011 Filed 12-16-09; 8:45 am]

BILLING CODE 6325-39-P